DEPARTMENT OF AGRICULTURE

Agricultural Marketing Service

[Doc. No. AMS-LPS-14-0001]

Notice of Request for Extension and Revision of a Currently Approved Information Collection for Voluntary Grading.

AGENCY: Agricultural Marketing Service, USDA.

ACTION: Notice and request for comments.

SUMMARY: In accordance with the Paperwork Reduction Act of 1995 (44 U.S.C. Chapter 35), this notice announces the Agricultural Marketing Service's (AMS) intention to request approval, from the Office of Management and Budget, for an extension of and revision to the currently approved information collection in support of the Regulations for Voluntary Grading of Shell Eggs—7 CFR Part 56. With this submission we will merge the burden and forms of the 0581-0127 Regulations for Voluntary Grading of Poultry Products and Rabbit Products; 7 CFR Part 70, approved on December 26, 2013; and 0581-0128 Regulations Governing the Voluntary Grading of Shell Eggs, 7 CFR Part 56, approved on June 4, 2011. With this merge we will change the title to Regulations for Voluntary Grading of Shell Eggs, Poultry Products, and Rabbit Products—7 CFR Part 56 and 70.

DATES: Comments on this notice must be received by April 28, 2014 to be assured of consideration.

ADDRESSES: Interested persons are invited to submit comments concerning this information collection notice. Comments should be submitted online at www.regulations.gov or sent to Michelle Degenhart, Assistant to the Director, Quality Assessment Division, Livestock, Poultry and Seed Program, Agricultural Marketing Service, U.S. Department of Agriculture, 1400 Independence Ave. SW., Room 3842-S, Washington, DC 20250-0256, or by facsimile to (202) 690-2746. All comments should reference the docket number (AMS-LPS-14-0001), the date, and the page number of this issue of the Federal Register. All comments received will be posted without change, including any personal information provided, online at http://www.regulations.gov and will be made available for public inspection at the above physical address during regular business hours.

FOR FURTHER INFORMATION CONTACT: Michelle Degenhart at the above physical address, or by email at Michelle.Degenhart@ams.usda.gov.

SUPPLEMENTARY INFORMATION: Title: Regulations for Voluntary Grading of Shell Eggs, Poultry Products, and Rabbit Products—7 CFR Part 56 and 70.

OMB Number: 0581-0128.

Expiration Date of Approval: June 30, 2014.

Type of Request: Extension and revision of a currently approved information collection.

Estimate of Burden: Public reporting burden for this collection of information is estimated to average 0.1538 hours per response.

Respondents: State or local governments, businesses or other for profits, and small businesses or organizations.

Estimated Number of Respondents: 1,348.

Estimated Total Annual Responses: 47,198.50.

Estimated Number of Responses per Respondent: 35.01.

Estimated Total Annual Burden on Respondents: 7,259.29 hours.

Abstract: The Agricultural Marketing Act of 1946 (AMA) (7 U.S.C. 1621-1627) directs and authorizes the United States Department of Agriculture (USDA) to develop standards of quality, grades, grading programs, and services which facilitate trading of agricultural products, assure consumers of quality products that are graded and identified under USDA programs. To provide programs and services, section 203(h) of the AMA (7 U.S.C.1622(h)) directs and authorizes the Secretary of Agriculture to inspect, certify, and identify the grade, class, quality, quantity, and condition of agricultural products under such rules and regulations as the Secretary may prescribe, including assessment and collection of fees for the cost of service. The regulations in 7 CFR Part 56 and 70 provides a voluntary program for grading shell eggs, poultry products, and rabbit products on the basis of U.S. standards and grades. AMS also provides other types of voluntary services under the regulations, e.g., contract and specification acceptance services and certification of quantity. All of the voluntary grading services are available on a resident basis or lot-fee basis. Respondents may request resident service on a continuous or temporary basis. The service is paid for by the user (user-fee). Because this is a voluntary program, respondents need to request or apply for the specific service they wish, and in doing so, they provide information. Since the AMA requires that the cost of service be assessed and collected, information is collected to establish the Agency's cost. The information collection requirements in this request are essential to carry out the intent of the AMA, to provide the respondents the type of service they request, and to administer the program. Examples of information collected includes, but not limited to: total received volume in pounds or cases, volume in pounds of graded and processed poultry, case volume of graded and sized shell eggs, applicant's name, billing and facility address, and requests for approval of commodity specifications or chemical compounds. The information collected is used only by authorized representatives of the USDA (AIMS, Livestock, Poultry and Seed Program's national staff; regional directors and their staffs; Federal-State supervisors and their staffs; and resident Federal-State graders, which includes State agencies). The information is used to administer and conduct grading services requested by respondents. The Agency is the primary user of the information. Information is also used by each authorized State agency that has a cooperative agreement with AMS.

Regulations Governing the Voluntary Grading of Poultry Products and Rabbit Products—7 CFR Part 70.

This collection was approved by OMB on December 26, 2013 and all forms, responses and burden will be included with this submission. Total burden to be merged is 2,005 burden hours and 24,053 responses.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: February 18, 2014.
Rex A. Barnes,
Associate Administrator, Agricultural Marketing Service.

[FR Doc. 2014-03856 Filed 2-24-14; 8:45 am]

BILLING CODE 3410-02-M